DEPARTMENT OF THE INTERIOR

National Park Service

Native American Graves Protection and Repatriation Review Committee: Nomination Solicitation

AGENCY: National Park Service

ACTION: Native American Graves Protection and Repatriation Review Committee; Notice of Nomination Solicitation

SUMMARY: The Native American Graves Protection and Repatriation Review Committee [P.L. 101-601] became law on November 16, 1990. Section 8 of the Act establishes a review committee to monitor implementation of the statute, facilitate the resolution of disputes, consult with the Secretary of the Interior in the development of regulations, and report to Congress on the status of implementation. The National Park Service is soliciting nominations for two members on this review committee.

DATES: Nominations should be received by June 19, 2000.

ADDRESSES: Nominations should be sent to the Assistant Director, Cultural Resources Stewardship and Partnerships, 1849 C Street NW- 350 NC, Washington, DC 20240. Nominations should include a brief biography with home and business addresses and telephone number of each nominated individual.

FOR FURTHER INFORMATION CONTACT: Mr. John Robbins, Assistant Director, Cultural Resources Stewardship and Partnerships, 1849 C Street NW- 350 NC, Washington, DC 20240; telephone 202/343-3387. A copy of the charter for this review committee is available upon request.

SUPPLEMENTARY INFORMATION: Section 8 (b) of the Act stipulates that the review committee is composed of seven members appointed by the Secretary of the Interior as follows:

a. Three members appointed from nominations by Indian tribes, Native Hawaiian organizations, and traditional religious leaders, with at least two such persons being traditional religious leaders. The term traditional religious leader means:

1. a person who is recognized by members of an Indian tribe or Native Hawaiian organization as being responsible for performing cultural duties relating to the ceremonial or religious traditions of that Indian tribe; or

2. a person who has or is exercising a leadership role in an Indian tribe or Native Hawaiian organization based on the tribe's or organization's cultural, ceremonial, or religious practices.

b. Three members appointed from nominations submitted by national museum organizations and scientific organizations; and

c. One member appointed from a list of persons developed and consented to by all of the other members.

The Secretary of the Interior will appoint one member from nominations received from Indian tribes and Native Hawaiian organizations. This particular appointee is not required to be a traditional religious leader.

The Secretary of the Interior will appoint one member from nominations received from national museum organizations and scientific organizations. The Secretary of the Interior may not appoint Federal officers or employees to the review committee.

Dated: February 2, 2000,
John Robbins,
Assistant Director, Cultural Resources Stewardship and Partnerships.

[FR Doc. 00-3052 Filed 2-9-00; 8:45 am]

BILLING CODE 4310-70-F